DEPARTMENT OF ENERGY

Federal Energy Regulatory Commission

Notice of FERC Staff Attendance at Meetings of Southwest Power Pool Board of Directors/Members Committee and Regional State Committee

October 17, 2005.

The Federal Energy Regulatory Commission hereby gives notice that members of its staff may attend the meetings of the Southwest Power Pool (SPP) Board of Directors/Members Committee and SPP Regional State Committee noted below. Their attendance is part of the Commission's ongoing outreach efforts.

SPP Board of Directors/Members Committee—October 25, 2005 (8 a.m.-2 p.m. MST): Inn and Spa at Loretto, 211 Old Santa Fe Trail, Santa Fe, NM, 505-988-5531.

SPP Regional State Committee—October 24, 2005, 12 p.m.-5 p.m. (Begins with Lunch): Inn and Spa at Loretto, 211 Old Santa Fe Trail, Santa Fe, NM, 505-988-5531.

The discussions may address matters at issue in the following proceedings:

Docket Nos. RT04-1 and ER04-48, Southwest Power Pool, Inc.

Docket No. ER05-109, Southwest Power Pool, Inc.

Docket No. ER05-652, Southwest Power Pool, Inc.

Docket No. ER05-562, Southwest Power Pool, Inc.

Docket No. ER05-666, Southwest Power Pool, Inc.

Docket No. ER05-688, Southwest Power Pool, Inc.

Docket No. EL05-52, Entergy Services, Inc.

Docket No. ER05-576, Southwest Power Pool, Inc.

Docket No. ER05-799, Southwest Power Pool, Inc.

Docket No. ER05-1065, Entergy Services, Inc.

Docket No. ER05-1118, Southwest Power Pool, Inc.

Docket No. ER05-1012, Union Electric Company d/b/a AmerenUE

Docket No. ER05-1049, Union Electric Company d/b/a AmerenUE

Docket No. ER05-1072, American Electric Power Service Corporation

Docket No. ER05-1087, Southwest Power Pool, Inc.

Docket No. ER05-1285, Southwest Power Pool, Inc.

Docket No. ER05-1352, Southwest Power Pool, Inc.

Docket No. ER06-15, Southwest Power Pool, Inc.

The meetings are open to the public.

For more information, contact Tony Ingram, Office of Markets, Tariffs and Rates, Federal Energy Regulatory Commission at (501) 614-4789 or tony.ingram@ferc.gov.

Magalie R. Salas,
Secretary.

[FR Doc. E5-5835 Filed 10-20-05; 8:45 am]

BILLING CODE 6717-01-P